DEFENSE NUCLEAR FACILITIES SAFETY BOARD

Sunshine Act Notice

AGENCY: Defense Nuclear Facilities Safety Board.

ACTION: Notice of public meeting and hearing.

SUMMARY: Pursuant to the provisions of the “Government in the Sunshine Act” (5 U.S.C. 552b), and as authorized by 42 U.S.C. 2286b, notice is hereby given of the Defense Nuclear Facilities Safety Board's (Board) public meeting and hearing described below. The Board invites any interested persons or groups to present any comments, technical information, or data concerning safety issues related to the matters to be considered.

TIME AND DATE OF MEETING: 9:00 a.m.-12:00 p.m., May 28, 2014.

PLACE: Defense Nuclear Facilities Safety Board, 625 Indiana Avenue NW., Suite 352, Washington, DC 20004-2901.

STATUS: Open. While the Government in the Sunshine Act does not require that the scheduled discussion be conducted in an open meeting, the Board has determined that an open meeting in this specific case furthers the public interests underlying both the Government in the Sunshine Act and the Board's enabling legislation.

MATTERS TO BE CONSIDERED: This public meeting and hearing is the first of two hearings the Board will convene to address safety culture at Department of Energy defense nuclear facilities and the Board's Recommendation 2011-1, Safety Culture at the Waste Treatment and Immobilization Plant. The second hearing will be announced by a separate notice at a future date. In this first hearing, the Board will receive testimony from a recognized industry expert in the field of safety culture, with a focus on the tools used for assessing safety culture, the approaches for interpreting the assessment results, and how the results can be used for improving safety culture. The Board will next hear testimony from safety culture representatives from the federal government, including senior staff of the Nuclear Regulatory Commission (NRC) and the National Aeronautics and Space Administration (NASA). NRC staff will discuss the NRC's approach to identifying safety culture concerns at licensee facilities and how the NRC expects those concerns to be evaluated and corrected. The hearing will conclude with a discussion from NASA staff concerning NASA's Policy for Safety and Mission Success, tools the agency uses to improve safety culture, and NASA's experience in improving and sustaining a robust safety culture.

Contact Person For More Information: Mark Welch, General Manager, Defense Nuclear Facilities Safety Board, 625 Indiana Avenue NW., Suite 700, Washington, DC 20004-2901, (800) 788-4016. This is a toll-free number.

SUPPLEMENTARY INFORMATION: Public participation in the hearing is invited. The Board is setting aside time at the end of the hearing for presentations and comments from the public. Requests to speak may be submitted in writing or by telephone. The Board asks that commenters describe the nature and scope of their oral presentations. Those who contact the Board prior to close of business on May 23, 2014, will be scheduled to speak at the conclusion of the hearing, at approximately 12:00 p.m. At the beginning of the hearing, the Board will post a schedule for speakers at the entrance to the hearing room. Commenters may also sign up to speak the day of the hearing at the entrance to the hearing room. Anyone who wishes to comment or provide technical information or data may do so in writing, either in lieu of, or in addition to, making an oral presentation. The Board Members may question presenters to the extent deemed appropriate. Documents will be accepted at the hearing or may be sent to the Board's Washington, DC office. The Board will hold the record open until June 28, 2014, for the receipt of additional materials. The hearing will be presented live through Internet video streaming. A link to the presentation will be available on the Board's Web site (www.dnfsb.gov). A transcript of the hearing, along with a DVD video recording, will be made available by the Board for inspection and viewing by the public at the Board's Washington office and at DOE's public reading room at the DOE Federal Building, 1000 Independence Avenue SW., Washington, DC 20585. The Board specifically reserves its right to further schedule and otherwise regulate the course of the meeting and hearing, to recess, reconvene, postpone, or adjourn the meeting and hearing, conduct further reviews, and otherwise exercise its power under the Atomic Energy Act of 1954, as amended.

Dated: April 30, 2014.
Peter S. Winokur,
Chairman.

[FR Doc. 2014-10263 Filed 4-30-14; 4:15 pm]

BILLING CODE 3670-01-P